DEPARTMENT OF DEFENSE

Office of the Secretary

[Transmittal No. 23-82]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 23-82 and Policy Justification.

Dated: December 16, 2024.
Stephanie J. Bost,
Alternate OSD Federal Register Liaison Officer, Department of Defense.

BILLING CODE 6001-FR-P

BILLING CODE 6001-FR-C

Transmittal No. 23-82

Notice of Proposed Issuance of Letter of Offer Pursuant to Section 36(b)(1) of the Arms Export Control Act, as amended

(i) Prospective Purchaser: Taipei Economic and Cultural Representative Office in the United States (TECRO)

(ii) Total Estimated Value:

Major Defense Equipment | $ 0
Other | $300 million
TOTAL | $300 million

(iii) Description and Quantity or Quantities of Articles or Services under Consideration for Purchase:

Major Defense Equipment (MDE):

None

Non-MDE:

Included is follow-on life cycle support to maintain Command, Control, Communications, and Computers (C4) capabilities managed under the Syun An program. The C4 capabilities consisting of previously procured Multifunctional Information Distribution Systems-Low Volume Terminals (MIDS-LVT) and Joint Tactical Information Distribution System (JTIDS) equipment, as well as procurement of spare and repair parts; repair and return of equipment; technical documentation; personnel training; software and hardware; software development; maintenance of Continental United States (CONUS) technical laboratories; U.S. Government and contract engineering and technical support; logistics; and other related elements of logistics and program support.

(iv) Military Department: Navy (TW-P-GPU)

(v) Prior Related Cases, if any: TW-P-GOS, TW-P-GNU, TW-P-GMK

(vi) Sales Commission, Fee, etc., Paid, Offered, or Agreed to be Paid: None known

(vii) Sensitivity of Technology Contained in the Defense Article or Defense Services Proposed to be Sold: None

(viii) Date Report Delivered to Congress: December 15, 2023

* As defined in Section 47(6) of the Arms Export Control Act.

POLICY JUSTIFICATION

Taipei Economic and Cultural Representative Office in the United States—Command, Control, Communications, and Computers (C4) Life Cycle Support

The Taipei Economic and Cultural Representative Office in the United States (U.S.) (TECRO) has requested to buy follow-on life cycle support to maintain Command, Control, Communications, and Computers (C4) capabilities managed under the Syun An program. The C4 capabilities consisting of previously procured Multifunctional Information Distribution Systems-Low Volume Terminals (MIDS-LVT) and Joint Tactical Information Distribution System (JTIDS) equipment, as well as procurement of spare and repair parts; repair and return of equipment; technical documentation; personnel training; software and hardware; software development; maintenance of Continental United States (CONUS) technical laboratories; U.S. Government and contract engineering and technical support; logistics; and other related elements of logistics and program support. The estimated total cost is $300 million.

This proposed sale is consistent with U.S. law and policy as expressed in Public Law 96-8.

This proposed sale serves U.S. national, economic, and security interests by supporting the recipient's continuing efforts to modernize its armed forces and to maintain a credible defensive capability. The proposed sale will help improve the security of the recipient and assist in maintaining political stability, military balance, and economic progress in the region.

The proposed sale will improve the recipient's capability to meet current and future threats by enhancing operational readiness and maintenance of its existing C4 capabilities and sustaining capabilities that provide secure flow of tactical information required for the development of a Joint Common Operation Picture. The recipient will have no difficulty absorbing this support and equipment into its inventory.

The proposed sale of this equipment and support will not alter the basic military balance in the region.

The principal contractor(s) will be determined through U.S. Government competitive processes. There are no known offset agreements proposed in connection with this potential sale.

Implementation of this proposed sale will require an estimated twenty-six (26) U.S. Government personnel and eighty-three (83) U.S. contractor representatives to travel to the recipient, as required, to provide engineering and technical support services as well as program and technical reviews.

There will be no adverse impact on U.S. defense readiness as a result of this proposed sale.

[FR Doc. 2024-30308 Filed 12-18-24; 8:45 am]

BILLING CODE 6001-FR-P